Proclamation 7509 of November 29, 2001

National Drunk and Drugged Driving Prevention Month, 2001

By the President of the United States of America

A Proclamation

Each December we turn our attention to the problem of drunk driving by observing National Drunk and Drugged Driving Prevention Month. Though the holidays bring joy in celebrations with family and friends, they also bring a tragic increase in the incidence of impaired driving. This season, I ask each American to avoid driving while they are under the influence of alcohol or drugs, to help stop others from driving in an impaired condition, and to increase community awareness about these issues.

Despite many efforts by States, communities, and citizen groups to stop drunk and drugged driving, many Americans mistakenly continue to view impaired driving as acceptable conduct. After years of gradual improvement, fatalities in alcohol-related crashes rose by 4 percent from 1999 to 2000. The National Highway Traffic Safety Administration estimates that last year alcohol was involved in 40 percent of fatal crashes and in 8 percent of all crashes.

Every person should reaffirm his or her personal responsibility to drive free of the influence of alcohol or drugs and to prevent others from driving under the influence of them. We must promote practices such as designating a sober driver, stopping impaired family members and friends from getting behind the wheel, reporting impaired drivers to law enforcement officials, and teaching our young people safe, alcohol- and drug-free driving behavior.

We should also promote coordinated public policies and citizen campaigns against drunk and drugged driving in our communities. One example is the Department of Transportation's You Drink & Drive, You Lose campaign. This national coalition of community and law enforcement organizations will increase public awareness of the hazards of impaired driving. Their message warns of the criminal penalties for impaired driving, including imprisonment and the loss of license, vehicle, time from work, and money in fines and court costs.

As we celebrate the joyous holiday season, we can help save lives by preventing impaired driving. In order to ensure the safety of our roads for all travelers, we must continue to fight drunk and drugged driving throughout the year.

NOW, THEREFORE, I, GEORGE W. BUSH, President of the United States of America, by virtue of the authority vested in me by the Constitution and laws of the United States, do hereby proclaim December 2001 as National Drunk and Drugged Driving Prevention Month. I call upon State and community leaders to join the National Holiday Lifesavers Mobilization, sponsored by the You Drink & Drive, You Lose campaign, on December 21-23, 2001. I also urge all Americans to remember the hazards of impaired driving and to become involved in fighting this dangerous problem.

IN WITNESS WHEREOF, I have hereunto set my hand this twenty-ninth day of November, in the year of our Lord two thousand one, and of the Independence of the United States of America the two hundred and twenty-sixth.

B

[FR Doc. 01-30147

Filed 12-3-01; 8:45 am]

Billing code 3195-01-P